DEPARTMENT OF TRANSPORTATION

Federal Aviation Administration

14 CFR Part 39

[Docket No. FAA-2016-9055; Directorate Identifier 2016-NM-071-AD; Amendment 39-18977; AD 2017-15-17]

RIN 2120-AA64

Airworthiness Directives; Airbus Airplanes

AGENCY: Federal Aviation Administration (FAA), Department of Transportation (DOT).

ACTION: Final rule.

SUMMARY: We are adopting a new airworthiness directive (AD) for certain Airbus Model A300 B4-600R series airplanes, Model A300 C4-605R Variant F airplanes, and Model A300 F4-600R series airplanes. This AD was prompted by the results of a full stress analysis of the lower area of a certain frame that revealed that a crack could occur in this area after a certain number of flight cycles. This AD requires an inspection of the lower area of a certain frame radius for cracking, and corrective action if necessary. We are issuing this AD to address the unsafe condition on these products.

DATES: This AD is effective September 5, 2017.

The Director of the Federal Register approved the incorporation by reference of certain publications listed in this AD as of September 5, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9055.

Examining the AD Docket

You may examine the AD docket on the Internet at http://www.regulations.gov by searching for and locating Docket No. FAA-2016-9055; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a supplemental notice of proposed rulemaking (SNPRM) to amend 14 CFR part 39 by adding an AD that would apply to certain Airbus Model A300 B4-600R series airplanes, Model A300 C4-605R Variant F airplanes, and Model A300 F4-600R series airplanes. The SNPRM published in the Federal Register on March 2, 2017 (82 FR 12314) (“the SNPRM”). We preceded the SNPRM with a notice of proposed rulemaking (NPRM) that published in the Federal Register on September 8, 2016 (81 FR 62026) (“the NPRM”). The NPRM proposed to require an inspection of the lower area of a certain frame radius for cracking, and corrective action if necessary. The NPRM was prompted by the results of a full stress analysis of the lower area of a certain frame that revealed a crack could occur in the forward fitting lower radius of a certain frame after a certain number of flight cycles. The SNPRM proposed to require extending the area to be inspected for cracking and adding an inspection for previously inspected airplanes. We are issuing this AD to detect and correct cracking in the forward fitting lower radius of a certain frame. Such cracking could reduce the structural integrity of the fuselage.

The European Aviation Safety Agency (EASA), which is the Technical Agent for the Member States of the European Union, has issued EASA AD 2016-0179, dated September 12, 2016 (referred to after this as the Mandatory Continuing Airworthiness Information, or “the MCAI”), which superseded EASA AD 2016-0085, dated April 28, 2016. EASA AD 2016-0085 was the MCAI referred to in the NPRM.

The MCAI was issued to correct an unsafe condition for certain Airbus Model A300 B4-600R series airplanes, Model A300 C4-605R Variant F airplanes, and Model A300 F4-600R series airplanes. The MCAI states:

Following a full stress analysis of the Frame (FR) 40 lower area, supported by a Finite Element Model (FEM), of the post-mod 10221 configuration, it was demonstrated that, for the FR40 forward fitting lower radius, a crack could occur after a certain amount of flight cycles (FC).

This condition, if not detected and corrected, could reduce the structural integrity of the fuselage.

To address this potential unsafe condition, Airbus established that crack detection could be achieved through a special detailed inspection (SDI) using a high frequency eddy current (HFEC) method, and issued Alert Operators Transmission (AOT) A57W009-16 to provide those inspection instructions.

Consequently, EASA issued AD 2016-0085 to require a one-time SDI of the FR40 lower area and, depending on findings, accomplishment of applicable corrective action(s).

Since that [EASA] AD was issued, further cracks were detected, originating from the fastener hole, and, based on these findings, it was determined that inspection area must be enlarged, and Airbus AOT A57W009-16 Revision (Rev.) 01 was issued accordingly.

For the reasons described above, this [EASA] AD retains the requirements of EASA AD 2016-0085, which is superseded, extends the area of inspection, and requires an additional inspection for aeroplanes previously inspected.

The one-time SDI for high cycle aeroplanes is intended to mitigate the highest risks within the fleet. Airbus is currently developing instructions for repetitive inspections that are likely to be the subject of further [EASA] AD action.

You may examine the MCAI in the AD docket on the Internet at http://www.regulations.gov by searching for and locating Docket No. FAA-2016-9055.

Comments

We gave the public the opportunity to participate in developing this AD. The following presents the comments received on the SNPRM and the FAA's response to each comment.

Requests To Refer to New Service Information

FedEx and United Parcel Service (UPS) requested that the SNPRM be revised to refer to a service bulletin that Airbus plans to release to replace Airbus Alert Operators Transmission (AOT) A57W009-16, Rev 01, including Appendices 1 and 2, dated July 13, 2016 (“AOT A57W009-16, Rev 01”). AOT A57W009-16, Rev 01, was identified as the service information to be used to accomplish the actions specified in the SNPRM. UPS noted that the service bulletin would include information based on in-service reports from operators who had accomplished the inspection identified in AOT A57W009-16, Rev 01, and based on the results of a full stress analysis of the frame (FR) 40 lower area. Based on this information Airbus changed the initial inspection compliance time from what was specified in AOT A57W009-16, Rev 01, and established repetitive inspection intervals. FedEx and UPS both mentioned that to reduce the number of alternative method of compliance (AMOC) requests, the SNPRM should be revised to include the service bulletin. UPS also noted that including the service information would benefit the FAA because the FAA could avoid future rulemaking regarding this issue.

We partially agree with the commenters' requests. After the SNPRM was published, Airbus issued Service Bulletin A300-57-6120, dated April 28, 2017. However, instead of removing the reference to AOT A57W009-16, Rev 01, in this AD, we have added paragraph (j) to this AD to allow operators to do the required actions in accordance with the Accomplishment Instructions of Service Bulletin A300-57-6120, dated April 28, 2017. We have redesignated the subsequent paragraphs accordingly.

Request To Revise Reporting Method

FedEx requested that paragraph (j) of the proposed AD (in the SNPRM) be revised to provide flexibility regarding the method of reporting inspection results to Airbus. FedEx stated that to utilize the Airbus online reporting system would require substantial updates to its information technology systems and personnel training; therefore, it is not prepared to utilize the online reporting system at this time. FedEx suggested that the older method of reporting be allowed until it has the computer and personnel resources in place to utilize online reporting.

We agree with the commenter's request. We have determined that operators may use either the online or older reporting method. We have revised paragraph (k) of this AD (paragraph (j) of the proposed AD (in the SNPRM)) to allow operators to report inspection findings using the online reporting system or submit the results to Airbus in accordance with the instructions of Airbus Service Bulletin A300-57-6120, dated April 28, 2017.

Conclusion

We reviewed the relevant data, considered the comments received, and determined that air safety and the public interest require adopting this AD with the changes described previously and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

We reviewed Airbus AOT A57W009-16, Rev 01, including Appendices 1 and 2, dated July 13, 2016. This service information describes procedures for a one-time inspection of the forward fitting lower radius of FR 40 for cracking, and corrective action.

We have also reviewed Airbus Service Bulletin A300-57-6120, dated April 28, 2017. This service information describes procedures for repetitive inspections of the forward fitting lower radius of FR 40 for cracking, and corrective action.

This service information is reasonably available because the interested parties have access to it through their normal course of business or by the means identified in the ADDRESSES section.

Costs of Compliance

We estimate that this AD affects 94 airplanes of U.S. registry.

We estimate the following costs to comply with this AD:

Estimated Costs
Action | Labor cost | Parts cost | Cost per product | Cost on U.S. operators
Inspection | 3 work-hours × $85 per hour = $255 | $0 | $255 | $23,970
Report | 1 work-hour × $85 per hour = $85 | 0 | 85 | 7,990

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-15-17 Airbus: Amendment 39-18977; Docket No. FAA-2016-9055; Directorate Identifier 2016-NM-071-AD.

(a) Effective Date

This AD is effective September 5, 2017.

(b) Affected ADs

None.

(c) Applicability

This AD applies to Airbus airplanes, certificated in any category, identified in paragraphs (c)(1), (c)(2), and (c)(3) of this AD, on which Airbus Modification 10221 was embodied in production.

(1) Airbus Model A300 B4-605R and B4-622R airplanes.

(2) Airbus Model A300 C4-605R Variant F airplanes.

(3) Airbus Model A300 F4-605R and F4-622R airplanes.

(d) Subject

Air Transport Association (ATA) of America Code 57, Wings.

(e) Reason

This AD was prompted by the detection of cracking that originated from the fastener holes in the forward fitting lower radius of frame (FR) 40. We are issuing this AD to detect and correct cracking in the forward fitting lower radius of FR 40. Such cracking could reduce the structural integrity of the fuselage.

(f) Compliance

Comply with this AD within the compliance times specified, unless already done.

(g) Inspection

At the later of the compliance times specified in paragraphs (g)(1) and (g)(2) of this AD, do a high frequency eddy current (HFEC) inspection of the lower area of the FR 40 radius for cracking, in accordance with paragraph 4.2.2 in Airbus Alert Operators Transmission (AOT) A57W009-16, Rev 01, including Appendices 1 and 2, dated July 13, 2016.

(1) Prior to exceeding 19,000 total flight cycles or 41,000 total flight hours since the airplane's first flight, whichever occurs first.

(2) Within 300 flight cycles or 630 flight hours after the effective date of this AD, whichever occurs first.

(h) Additional Inspection for Previously Inspected Airplanes

For airplanes on which the HFEC inspection required by paragraph (g) of this AD was accomplished before the effective date of this AD using the procedures in Airbus AOT A57W009-16, Rev 00, including Appendices 1 and 2, dated February 25, 2016: Within 300 flight cycles or 630 flight hours after the effective date of this AD, whichever occurs first, do a one-time additional HFEC inspection of the lower area of the FR 40 radius for cracking, in accordance with paragraph 4.2.2 in Airbus AOT A57W009-16, Rev 01, including Appendices 1 and 2, dated July 13, 2016.

(i) Corrective Action

If any crack is found during the inspection required by paragraph (g) or (h) of this AD: Before further flight, do the applicable corrective actions in accordance with the procedures in Airbus AOT A57W009-16, Rev 01, including Appendices 1 and 2, dated July 13, 2016. Where AOT A57W009-16, Rev 01, including Appendices 1 and 2, dated July 13, 2016, specifies to contact Airbus for appropriate action, accomplish the corrective actions in accordance with the procedures specified in paragraph (m)(2) of this AD.

(j) Optional Service Information for Accomplishing Required Actions

Accomplishment of the actions required by paragraphs (g), (h), and (i) of this AD, in accordance with, and at the compliance times specified in, the Accomplishment Instructions of Airbus Service Bulletin A300-57-6120, dated April 28, 2017, is acceptable for compliance with the requirements of those paragraphs.

(k) Reporting Requirement

Submit a report of all findings (both positive and negative) from the inspection required by paragraph (g) of this AD to Airbus Customer Services through TechRequest on Airbus World (https://w3.airbus.com/) by selecting Engineering Domain and ATA 57-10; or submit the results to Airbus in accordance with the procedures in Airbus Service Bulletin A300-57-6120, dated April 28, 2017.

(1) For airplanes on which the inspection specified in paragraph (g) of this AD is accomplished on or after the effective date of this AD: Submit the report within 30 days after performing the inspection.

(2) For airplanes on which the inspection specified in paragraph (g) of this AD is accomplished before the effective date of this AD: Submit the report within 30 days after the effective date of this AD.

(l) Credit for Previous Actions

This paragraph provides credit for the action required by paragraph (g) of this AD, if that action was done before the effective date of this AD using Airbus AOT A57W009-16, Rev 00, including Appendices 1 and 2, dated February 25, 2016, provided the inspection required by paragraph (h) of this AD is accomplished.

(m) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to the attention of the person identified in paragraph (n)(2) of this AD. Information may be emailed to: 9-ANM-116-AMOC-REQUESTS@faa.gov.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA AD 2016-0179, dated September 12, 2016, for related information. This MCAI may be found in the AD docket on the Internet at http://www.regulations.gov by searching for and locating Docket No. FAA-2016-9055.

(2) For more information about this AD, contact Dan Rodina, Aerospace Engineer, International Branch, ANM-116, FAA, 1601 Lind Avenue SW., Renton, WA 98057-3356; telephone 425-227-2125; fax 425-227-1149.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A57W009-16, Rev 01, including Appendices 1 and 2, dated July 13, 2016.

(ii) Airbus Service Bulletin A300-57-6120, dated April 28, 2017.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 19, 2017.
Victor Wicklund,
Acting Manager, Transport Airplane Directorate, Aircraft Certification Service.

[FR Doc. 2017-15808 Filed 7-31-17; 8:45 am]

BILLING CODE 4910-13-P